DEPARTMENT OF TRANSPORTATION

Surface Transportation Board

[STB Finance Docket No. 34481]

Horsehead Corporation—Petition for Acquisition and Operation Exemption—Chestnut Ridge Railway Company

AGENCY: Surface Transportation Board, DOT.

ACTION: Grant of Petition for Acquisition and Operation Exemption.

SUMMARY: The Board grants Horsehead Corporation's (Horsehead) petition seeking an exemption under 49 U.S.C. 10502 from the prior approval requirements of 49 U.S.C. 10901 to acquire and operate a 6.6-mile line of railroad in Carbon County, PA, that was formerly operated by the Chestnut Ridge Railway Company retroactive back to December 23, 2003, the date Horsehead actually acquired the line.

DATES: This exemption is effective on March 12, 2004. Petitions to reopen must be filed by April 8, 2004.

ADDRESSES: An original and 10 copies of all pleadings referring to STB Finance Docket No. 34481 must be filed with the Surface Transportation Board, 1925 K Street, NW., Washington, DC 20423-0001. In addition, a copy of all pleadings must be served on petitioner's representative: Donald G. Avery, Slover & Loftus, 1224 17th Street, NW., Washington, DC 20036.

FOR FURTHER INFORMATION CONTACT: Joseph H. Dettmar (202) 565-1609.

SUPPLEMENTARY INFORMATION: Additional information is contained in the Board's decision. To purchase a copy of the full decision, write to, call, or pick up in person from: ASAP Document Solutions, 9332 Annapolis Rd., Suite 103, Lanham, MD 20706. Telephone: (301) 577-2600. (Assistance for the hearing impaired is available through FIRS at 1-800-877-8339.)

Board decisions and notices are available on our Web site at http://www.stb.dot.gov.

Decided: March 12, 2004.
By the Board, Chairman Nober.
Vernon A. Williams,
Secretary.

[FR Doc. 04-6088 Filed 3-18-04; 8:45 am]

BILLING CODE 4915-01-P